NATIONAL AERONAUTICS AND SPACE ADMINISTRATION

14 CFR Part 1204

[NASA Document No: NASA-23-054; NASA Docket No: NASA-2023-0003]

RIN 2700-AE70

Delegations and Designations

AGENCY: National Aeronautics and Space Administration.

ACTION: Direct final rule, withdrawal.

SUMMARY: NASA published a document in the Federal Register on July 5, 2023, concerning Delegations and Designations. The Agency is withdrawing the document for allow for additional internal coordination.

DATES: Effective on September 5, 2023, the direct final rule published at 88 FR 42870, July 5, 2023 is withdrawn.

FOR FURTHER INFORMATION CONTACT: Daniela Cruzado, 202-295-7589.

SUPPLEMENTARY INFORMATION:

NASA published a document in the Federal Register on July 5, 2023 [88 FR 42870], in FR Doc. 2023-14042, concerning Delegations and Designations. The Agency is withdrawing the document to allow for additional internal coordination.

Nanette Smith,
Team Lead, NASA Directives and Regulations.

[FR Doc. 2023-16123 Filed 8-1-23; 8:45 am]

BILLING CODE P